COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and a service to the Procurement List that will be furnished by nonprofit agencies employing persons who are blind or have other severe disabilities, and deletes products previously furnished by such agencies.

Comments Must Be Received On Or Before: 12/22/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 8415-00-FAB-5250—Kit, Pre-Cut Fabric, ECWCS Gen III Trouser, UCP, S-R

NSN: 8415-00-FAB-5295—Kit, Pre-Cut Fabric, ECWCS Gen III Trouser, UCP, L-R

NSN: 8415-00-FAB-5296—Kit, Pre-Cut Fabric, ECWCS Gen III Trouser, UCP, L-L

NSN: 8415-00-FAB-5293—Kit, Pre-Cut Fabric, ECWCS Gen III Trouser, UCP, M-R

NSN: 8415-00-FAB-5297—Kit, Pre-Cut Fabric, ECWCS Gen III Trouser, UCP, XL-R

NSN: 8415-00-FAB-5298—Kit, Pre-Cut Fabric, ECWCS Gen III Trouser, UCP, XL-L

NSN: 8415-00-FAB-5207—Kit, Pre-Cut Fabric, ECWCS Gen III Trouser, UCP, XS-S

NSN: 8415-00-FAB-5226—Kit, Pre-Cut Fabric, ECWCS Gen III Trouser, UCP, S-S

NSN: 8415-00-FAB-5251—Kit, Pre-Cut Fabric, ECWCS Gen III Trouser, UCP, S-L

NSN: 8415-00-FAB-5294—Kit, Pre-Cut Fabric, ECWCS Gen III Trouser, UCP, M-L

NSN: 8415-00-FAB-5299—Kit, Pre-Cut Fabric, ECWCS Gen III Trouser, UCP, XL-XL

NSN: 8415-00-FAB-5302—Kit, Pre-Cut Fabric, ECWCS Gen III Trouser, UCP, XXL-R

NSN: 8415-00-FAB-5301—Kit, Pre-Cut Fabric, ECWCS Gen III Trouser, UCP, XXL-L

NSN: 8415-00-FAB-5303—Kit, Pre-Cut Fabric, ECWCS Gen III Trouser, UCP, XXL-XL

NSN: 8415-00-FAB-5249—Kit, Pre-Cut Fabric, ECWCS Gen III Trouser, UCP, XS-R

NSN: 8415-00-FAB-0899—Kit, Pre-Cut Fabric, ECWCS Gen III Trouser, Multi-Cam, S-R

NSN: 8415-00-FAB-0897—Kit, Pre-Cut Fabric, ECWCS Gen III Trouser, Multi-Cam, M-R

NSN: 8415-00-FAB-0895—Kit, Pre-Cut Fabric, ECWCS Gen III Trouser, Multi-Cam, L-R

NSN: 8415-00-FAB-0894—Kit, Pre-Cut Fabric, ECWCS Gen III Trouser, Multi-Cam, L-L

NSN: 8415-00-FAB-0903—Kit, Pre-Cut Fabric, ECWCS Gen III Trouser, Multi-Cam, XL-R

NSN: 8415-00-FAB-0901—Kit, Pre-Cut Fabric, ECWCS Gen III Trouser, Multi-Cam, XL-L

NSN: 8415-00-FAB-0908—Kit, Pre-Cut Fabric, ECWCS Gen III Trouser, Multi-Cam, XS-S

NSN: 8415-00-FAB-0907—Kit, Pre-Cut Fabric, ECWCS Gen III Trouser, Multi-Cam, XS-R

NSN: 8415-00-FAB-0900—Kit, Pre-Cut Fabric, ECWCS Gen III Trouser, Multi-Cam, S-S

NSN: 8415-00-FAB-0898—Kit, Pre-Cut Fabric, ECWCS Gen III Trouser, Multi-Cam, S-L

NSN: 8415-00-FAB-0896—Kit, Pre-Cut Fabric, ECWCS Gen III Trouser, Multi-Cam, M-L

NSN: 8415-00-FAB-0905—Kit, Pre-Cut Fabric, ECWCS Gen III Trouser, Multi-Cam, XL-XL

NSN: 8415-00-FAB-0914—Kit, Pre-Cut Fabric, ECWCS Gen III Trouser, Multi-Cam, XXL-R

NSN: 8415-00-FAB-0912—Kit, Pre-Cut Fabric, ECWCS Gen III Trouser, Multi-Cam, XXL-L

NSN: 8415-00-FAB-0916—Kit, Pre-Cut Fabric, ECWCS Gen III Trouser, Multi-Cam, XXL-XL

NSN: 8415-00-TPE-0929—Tape, Seam, Pre-Cut component for ECWCS Gen III Trousers, Black

NPA: Blind Industries & Services of Maryland, Baltimore, MD

Contracting Activity: Department of Justice, Federal Prison System, Washington, DC

Coverage: C-List for 100% of the requirements of the Federal Prison Industries UNICOR, as aggregated by the Federal Prison System, Washington, DC.

Services

Service Type/Location: Grounds Maintenance Service, U.S. Coast Guard, Townsends Inlet Recreational Facility, 8101 Landis Avenue, Sea Isle City, NJ

NPA: Fedcap Rehabilitation Services, Inc., New York, NY

Contracting Activity: U.S. Coast Guard, Base Portsmouth, Portsmouth, VA

Deletions

The following products are proposed for deletion from the Procurement List:

Products

Microfibers Kitchen Towels and Cloths

NSN: MR 939—Set, Cleaning, Microfiber, Leaf Print, 2 Piece

NPA: Alphapointe, Kansas City, MO

Contracting Activity: Defense Commissary Agency, Fort Lee, VA

Disk, Flexible

NSN: 7045-01-283-4362—Disk, Flexible

NPA: North Central Sight Services, Inc., Williamsport, PA

Contracting Activity: Defense Logistics Agency Troop Support, Philadelphia, PA

Barry S. Lineback,
Director, Business Operations.

[FR Doc. 2014-27592 Filed 11-20-14; 8:45 am]

BILLING CODE 6353-01-P